DEPARTMENT OF HEALTH AND HUMAN SERVICES

National Committee on Vital and Health Statistics; Meeting

Pursuant to the Federal Advisory Committee Act, the Department of Health and Human Services announces the following advisory committee meeting.

Name: National Committee on Vital and Health Statistics (NCVHS), Subcommittee on Standards and Security.

Time and Date: 9 a.m. to 5 p.m., December 13, 2001, 8:30 a.m. to 3 p.m., December 14, 2001.

Place: Hubert H. Humphrey Building, Room 705A, 200 Independence Avenue, SW., Washington, DC.

Status: Open.

Purpose: On the first day, the Subcommittee will focus on the patient medical record initiative. The Subcommittee will participate in a question and answer session with Standards Developing Organizations working in the area of message formats, and will discuss the letter conveying recommendations on this topic to the Secretary. The topic for the second day will be Health Insurance Portability and Accountability Act of 1996 (HIPAA) administrative simplification standards. The Subcommittee will hear testimony on industry readiness, and will discuss the 2001 report to Congress on the status of HIPAA administrative simplification implementation.

Notice: In the interest of security, HHS has instituted stringent procedures for entrance to the Hubert H. Humphrey building by non-government employees. Persons without a government identification card may need to have the guard call for an escort to the meeting.

Contact Person for More Information: Substantive program information as well as summaries of meetings and a roster of committee members may be obtained from J. Michael Fitzmaurice, Ph.D., Senior Science Advisor for Information Technology, Agency for Health Care Research and Quality, 2101 East Jefferson Street, #600, Rockville, MD 20852, phone: (301) 594-3938; or Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS web site: http://www.ncvhs.hhs.gov/ where an agenda for the meeting will be posted when available.

Dated: November 27, 2001.
James Scanlon,
Director, Division of Data Policy, Office of the Assistant Secretary for Planning and Evaluation.

[FR Doc. 01-30152 Filed 12-4-01; 8:45 am]

BILLING CODE 4151-05-M